DEPARTMENT OF ENERGY

Subcommittee on Generation IV Technology Planning of the Nuclear Energy Research Advisory Committee

AGENCY: Department of Energy.

ACTION: Notice of open meeting.

SUMMARY: This notice announces a meeting of the Subcommittee on Generation IV Technology Planning of the Nuclear Energy Research Advisory Committee. The Federal Advisory Committee Act (Pub. L. No. 92-463, 86 Stat. 770), requires that public notice of the meetings be announced in the Federal Register.

DATES: November 16, 2000, 9 a.m.-Noon.

ADDRESSES: J W Marriott, National Place, 1331 Pennsylvania Avenue, NW., Washington, DC 20004, (202) 393-2000. Public Meeting to be held in the Cannon Room.

FOR FURTHER INFORMATION CONTACT: Dr. Norton Haberman, Designated Federal Officer, Nuclear Energy Research Advisory Committee, U.S. Department of Energy (DOE), NE-1, 1000 Independence Avenue, SW., Washington DC 20585, Telephone Number 202-586-0136, E-mail: Norton.Haberman@hq.doe.gov.

SUPPLEMENTARY INFORMATION:

Purpose of the Meeting

The Subcommittee on Generation IV Technology Planning of the Nuclear Energy Research Advisory Committee has been requested to provide the Director of the Office of Nuclear Energy, Science and Technology with guidance on DOE's effort to prepare a Generation IV technology roadmap. The broad objectives of the Generation IV program are to develop nuclear energy systems that exceed today's state-of-the-art technology in terms of enhanced nuclear safety, minimization of waste generation, increased proliferation resistance and superior economics. The subcommittee will consider the views of individuals and organizations about specific goals that should be included in the roadmap as well as recommendations as to research and development activities that should be addressed.

Tentative Agenda

Thursday, November 16, 2000.

The agenda for this meeting will be dependent on the responses to this Notice.

Public Participation

The meeting is open to the public on a first-come, first-served basis. Written statements may also be filed with the committee before or after the meeting. Members of the public who wish to make oral statements should contact Norton Haberman at the address or telephone number listed above. Such statements should be limited to five minutes. Requests to make oral statements must be made and received five days prior to the meeting. The Chair of the committee is empowered to conduct the meeting in a fashion that will facilitate the orderly conduct of business. This notice is being published less than 15 days before the date of the meeting due to the late resolution of programmatic issues.

Minutes

The minutes of this meeting will be available for public review and copying at the Freedom of Information Reading Room. 1E-190, Forrestal Building, 1000 Independence Avenue, SW., Washington, DC, between 9 a.m. and 4 p.m., Monday through Friday, except holidays.

Issued in Washington DC on November 2, 2000.
Rachel M. Samuel,
Deputy Advisory Committee Management Officer.

[FR Doc. 00-28500 Filed 11-6-00; 8:45 am]

BILLING CODE 6450-01-P